DEPARTMENT OF ENERGY

Federal Energy Regulatory Commission

[Docket No. EC03-86-000, et al.]

Electric Rate and Corporate Regulation Filings

May 15, 2003.

The following filings have been made with the Commission. The filings are listed in ascending order within each docket classification.

1. Calpine California Equipment Finance Company, LLC

[Docket No. EC03-86-000]Company, LLC

Creed Energy Center, LLC

Goose Haven Energy Center, LLC

Lambie Energy Center, LLC

Gilroy Energy Center, LLC

King City Energy Center, LLC

Feather River Energy Center, LLC

Yuba City Energy Center, LLC

Wolfskill Energy Center, LLC

Riverview Energy Center, LLC

Take notice that on May 6, 2003, Calpine California Equipment Finance Company, LLC, Creed Energy Center, LLC, Goose Haven Energy Center, LLC, Lambie Energy Center, LLC, Gilroy Energy Center, LLC, King City Energy Center, LLC, Feather River Energy Center, LLC, Yuba City Energy Center, LLC, Wolfskill Energy Center, LLC and Riverview Energy Center, LLC (Applicants) tendered for filing with the Federal Energy Regulatory Commission (Commission) an application under section 203 of the Federal Power Act for approval of the disposition of jurisdictional facilities and the acquisition of securities of a public utility in connection with the financing of certain generation facilities in the State of California.

Comment Date: May 27, 2003.

2. UGI Utilities, Inc.

[Docket No. EC03-87-000]

Take notice that on May 8, 2003, UGI Utilities, Inc. (UGI Utilities) tendered for filing with the Federal Energy Regulatory Commission (Commission) an application, pursuant to Section 203 of the Federal Power Act, requesting authorization to transfer its interests in UGI Development Company, UGI Hunlock Development Company, and Hunlock Creek Energy Ventures, to its affiliate UGI Enterprises, Inc., as part of UGI Corporation's corporate restructuring plan.

Comment Date: May 29, 2003.

3. Mesquite Power, LLC, Sempra Energy Resources

[Docket No. EC03-88-000]

Take notice that on May 12, 2003, Mesquite Power, LLC (Mesquite) and Sempra Energy Resources (SER) (together, Applicants) tendered for filing an application, pursuant to Section 203 of the Federal Power Act, for authorization of a disposition of jurisdiction facilities whereby a synthetic lease facility would be assigned by SER to Mesquite. Applicants state that the proposed transaction is intended to effectuate an intra-corporate transaction that will have no effect on competition, rates or regulation.

Comment Date: May 27, 2003.

4. Midwest Independent Transmission System Operator, Inc.

[Docket Nos. ER98-1438-019 and ER02-111-009]

Take notice that on May 13, 2003, the Midwest Independent Transmission System Operator, Inc. (Midwest ISO) tendered for filing with the Federal Energy Regulatory Commission (Commission), a supplement to its compliance filing in this proceeding. The Midwest ISO states that it submitted proposed revisions to further modify the definition of “Load Serving Entity” in the Agreement of Transmission Facilities Owners to Organize the Midwest Independent Transmission System Operator, Inc. (Transmission Owners Agreement) in compliance with the Commission's Order (Order) in Midwest Independent Transmission System Operator Inc., 103 FERC ¶ 61,038 (2003). The Midwest ISO has requested an effective date of April 1, 2003, consistent with the Order.

The Midwest ISO has also requested waiver of the service requirements set forth in 18 CFR 385.2010. The Midwest ISO states that it has electronically served a copy of this filing, with attachments, upon all Midwest ISO Members, Member representatives of Transmission Owners and Non-Transmission Owners, the Midwest ISO Advisory Committee participants, Policy Subcommittee participants, as well as all state commissions within the region. In addition, Midwest ISO states that the filing has been electronically posted on the Midwest ISO's Web site at www.midwestiso.org under the heading “Filings to FERC” for other interested parties in this matter, and that they will provide hard copies to any interested parties upon request.

Comment Date: June 3, 2003.

5. Southern Company Services, Inc.

[Docket No. ER02-851-008]

Take notice that on May 1, 2003, Southern Company Services, Inc., acting as agent for Alabama Power Company, Georgia Power Company, Gulf Power Company, Mississippi Power Company, and Savannah Electric and Power Company (collectively, Southern Companies), tendered for filing with the Federal Energy Regulatory Commission (Commission), an informational filing. Southern Companies states that the purpose of this informational filing is to update the data inputs to the formula rate adopted by Southern Companies in this proceeding and thereby establish updated charges for the use of their bulk transmission facilities under their Open Access Transmission Tariff (FERC Electric Tariff, Fourth Revised Volume No. 5).

Comment Date: May 29, 2003.

6. Southwest Power Pool, Inc.

[Docket No. ER03-547-001]

Take notice that on May 12, 2003, Southwest Power Pool, Inc. (SPP) submitted for filing with the Federal Energy Regulatory Commission (Commission), revisions of Attachment L to its open access transmission tariff, in compliance with the Commission's April 10, 2003 Order (April 10 Order) in the above-referenced docket, 103 FERC ¶ 61,027 (2003). SPP states that Attachment L now incorporates the agreement submitted by SPP and the participating SPP Transmission Owners to upgrade the 345 kV LaCygne-Stilwell transmission line. SPP further states that it has also made the revisions required by the Commission's April 10 Order to the body of the agreement.

SPP states that a copy of this filing has been served on the SPP Transmission Owners and all of the parties on the official service list compiled by the Secretary in this docket.

Comment Date: June 2, 2003.

7. Southwest Reserve Sharing Group

[Docket No. ER03-842-000]

Take notice that on May 13, 2003, Tucson Electric Power Company tendered for filing on behalf of the members of the Southwest Reserve Sharing Group an amendment to the Southwest Reserve Sharing Group Participation Agreement.

Comment Date: June 3, 2003.

8. Entergy Services, Inc.

[Docket No. ER03-843-000]

Take notice that on May 13, 2003, Entergy Services, Inc. (Entergy Services), on behalf of Entergy Arkansas, Inc., formerly Arkansas Power & Light Company (APL), tendered for filing a Notice of Termination of Contract between APL and the United States of America, represented by the Secretary of Energy, acting by and through the Administrator, Southwestern Power Administration, an Administration within the Department of Energy.

Comment Date: June 3, 2003.

9. Northern Indiana Public Service Company

[Docket No. ER03-844-000]

Take notice that on May 13, 2003, Northern Indiana Public Service Company (Northern Indiana) filed a Service Agreement pursuant to its Wholesale Market-Based Rate Tariff with ConocoPhillips Company (ConocoPhillips). Northern Indiana has requested an effective date of May 13, 2003.

Northern Indiana states that copies of this filing have been sent to ConocoPhillips, the Indiana Utility Regulatory Commission, and the Indiana Office of Utility Consumer Counselor.

Comment Date: June 3, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number filed to access the document. For assistance, contact FERC Online Support at FERCOnlineSupport@ferc.gov or toll-free at (866) 208-3676, or for TTY, contact (202) 502-8659.

Magalie R. Salas,
Secretary.

[FR Doc. 03-12915 Filed 5-21-03; 8:45 am]

BILLING CODE 6717-01-P